DEPARTMENT OF HOMELAND SECURITY

Coast Guard

33 CFR Part 117

[Docket No. USCG-2009-0023]

Drawbridge Operation Regulations; Nanticoke River, Seaford, DE

AGENCY: Coast Guard, DHS.

ACTION: Notice of temporary deviation from regulations.

SUMMARY: The Commander, Fifth Coast Guard District, has approved a temporary deviation from the regulations governing the operation of the SR 13 Bridge, at mile 39.6, across Nanticoke River, in Seaford, Delaware. Under this temporary deviation, the drawbridge will be allowed to operate on an advance notice basis on particular dates and times. The deviation is necessary to perform inspections of the electrical and mechanical systems.

DATES: This deviation is effective from 8 a.m. on February 6, 2009, to 5 p.m. on May 1, 2009.

ADDRESSES: Documents indicated in this preamble as being available in the docket are part of docket USCG-2009-0023 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the Commander (dpb), Fifth Coast Guard District, Federal Building, 1st Floor, 431 Crawford Street, Portsmouth, VA 23704-5004 between 8 a.m. and 4 p.m., Monday through Friday, except Federal holidays.

FOR FURTHER INFORMATION CONTACT: Mr. Waverly W. Gregory, Jr., Bridge Administrator, Fifth Coast Guard District, at (757) 398-6222.

SUPPLEMENTARY INFORMATION: Hardesty and Hanover LLP Engineering, on behalf of the Delaware Department of Transportation (who owns and operates this swing-type drawbridge) requested a temporary deviation from the current operating schedule to perform inspections of the electrical and mechanical systems.

The SR 13 Bridge, at mile 39.6, across Nanticoke River in Seaford, DE, has a vertical clearance of three feet, above mean high water in the closed-to-navigation position. The existing regulation is listed at 33 CFR 117.243(b).

Vessel openings will be provided each day from 8 a.m. to 5 p.m. on February 6, 2009, and from April 27 to May 1, 2009, if at least two hours notice is given.

The Coast Guard will inform the users of the waterway through our Local and Broadcast Notices to Mariners of the opening restrictions of the draw span to minimize transiting delays caused by the temporary deviation.

In accordance with 33 CFR 117.35(e), the drawbridge must return to its regular operating schedule immediately at the end of the designated time period. This deviation from the operating regulations is authorized under 33 CFR 117.35.

Dated: January 21, 2009.
Waverly W. Gregory, Jr.,
Chief, Bridge Administration Branch Fifth Coast Guard District.

[FR Doc. E9-2499 Filed 2-5-09; 8:45 am]

BILLING CODE 4910-15-P